DEPARTMENT OF ENERGY

Federal Energy Regulatory Commission

[Docket No. RM06-22-000]

Mandatory Reliability Standards for Critical Infrastructure Protection; Notice of Comment Period

December 11, 2006.

On August 28, 2006, the North American Electric Reliability Council, on behalf of its wholly-owned subsidiary, the North American Electric Reliability Corporation (collectively NERC), filed eight proposed Reliability Standards concerning Critical Infrastructure Protection (CIP) for Commission approval, pursuant to its role as the Electric Reliability Organization (ERO) under section 215 of the Federal Power Act (FPA). On September 18, 2006, the Commission issued a notice announcing that it established a new rulemaking proceeding, Docket No. RM06-22-000, to address the proposed CIP Reliability Standards.¹

¹ In addition, the Notice explained that nineteen other new and revised proposed Reliability Standards submitted by NERC in the same August 28, 2006 filing would be addressed in Docket No. RM06-16-000.

Concurrent with today's notice, the Commission is releasing a staff preliminary assessment of the eight proposed CIP Reliability Standards. This assessment is a preliminary technical analysis by staff and does not offer legal conclusions or recommend any particular action to be taken by the Commission. The Commission will issue a Notice of Proposed Rulemaking (NOPR) with its proposal on each Reliability Standard after receiving comments on the staff preliminary assessment. Interested persons will also have an opportunity to file comments on the NOPR.

NERC should respond to this preliminary assessment by February 12, 2007. We also invite other interested persons to file comments on the staff preliminary assessment by the comment date. Comments should respond to issues discussed in the preliminary assessment in the order in which they appear, and take care to identify which issue, Reliability Standard, or specific provision of a Reliability Standard is being addressed. Commenters may also address related issues not raised in the staff preliminary assessment to assist the Commission to make more informed decisions regarding the proposed CIP Reliability Standards.

The Commission encourages electronic submission of comments using the “eFiling” link at http://www.ferc.gov. Persons unable to file electronically should submit an original and 14 copies of their comments to the Secretary of the Commission, Federal Energy Regulatory Commission, 888 First Street, NE., Washington, DC 20426.

The staff preliminary assessment is accessible online at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Comment Date: 5 p.m. eastern time on February 12, 2007.

Magalie R. Salas,
Secretary.

[FR Doc. E6-21412 Filed 12-14-06; 8:45 am]

BILLING CODE 6717-01-P